DEPARTMENT OF HEALTH AND HUMAN SERVICES

Office of the Secretary

Meeting of the Secretary's Advisory Committee on Human Research Protections

AGENCY: Office of the Secretary, HHS.

ACTION: Notice of meeting.

SUMMARY: Pursuant to section 10(a) of the Federal Advisory Committee Act, as amended (5 U.S.C. appendix 2), notice is hereby given of the inaugural meeting of the Secretary's Advisory Committee on Human Research Protections (SACHRP). The meeting will be open to the public, with attendance limited to space available. Individuals must provide a photo ID for entry into the meeting. Individuals who plan to attend and need special assistance, such as sign language interpretation or other reasonable accommodations, should notify the contact person listed below.

DATES: The meeting will be held on Tuesday, July 22, 2003, and will convene EDT from approximately 8:30 a.m. to 5 p.m.

ADDRESSES: Hubert H. Humphrey Building, Room 800, 200 Independence Ave., SW., Washington, DC 20201.

FOR FURTHER INFORMATION CONTACT: Bernard Schwetz, D.V.M., PhD., Acting Executive Secretary, Secretary's Advisory Committee on Human Research Protections, Department of Health and Human Services, Office of Public Health and Science, 1101 Wootton Parkway, Suite 200, Rockville, MD 20852 (301) 496-7005, fax: (301) 402-0527, email address: sachrp@osophs.dhhs.gov.

SUPPLEMENTARY INFORMATION: Under the authority of 42 U.S.C. 217a, section 222 of the Public Health Service Act, as amended, the Department of Health and Human Services established SACHRP to provide expert advice and recommendations to the Secretary of HHS and the Assistant Secretary for Health on issues and topics pertaining to or associated with the protection of human research subjects.

At this inaugural meeting, SACHRP will review the activities which were not completed by the former National Human Research Protections Advisory Committee before its charter expired. SACHRP also will begin to plan and prioritize its activities for the next 24 months. Members of the public will have the opportunity to provide comments at the meeting. Public comment will be limited to five minutes per speaker. Any members of the public who wish to have printed material distributed to SACHRP members should submit materials to the Acting Executive Secretary of SACHRP (contact information listed above) prior to close of business July 16, 2003.

Information about SACHRP and the draft meeting agenda will be posted on the SACHRP Web site at: http://ohrp.osophs.dhhs.gov/sachrp/sachrp.htm.

Dated: June 26, 2003.
Bernard A. Schwetz,
Acting Executive Secretary, Secretary's Advisory Committee on Human Research Protections, Acting Director, Office for Human Research Protections.

[FR Doc. 03-16792 Filed 7-2-03; 8:45 am]

BILLING CODE 4150-36-P